DEPARTMENT OF JUSTICE

Notice of Lodging of Settlement Agreement Under the Comprehensive Environmental Response, Compensation, and Liability Act (CERCLA)

Notice is hereby given that on October 9, 2008, a proposed Consent Decree was filed with the United States District Court for the District of Delaware in United States v. Broadkiln Sportsman Club, Inc., Case No. 1:08-00762 (D. Del.). The proposed consent decree resolves cost recovery claims asserted by the U.S. Department of the Interior, U.S. Fish and Wildlife Service (Service) under the Comprehensive Environmental Response Compensation and Liability Act (“CERCLA”) section 107(a), 42 U.S.C. 9607(a), against the Broadkiln Sportsman Club, Inc., a gun club that owns property adjacent to the Prime Hook Wildlife Refuge (the “Refuge”) located near Milton, Sussex County, Delaware.

The Service incurred about $948,000 in response costs to address lead contamination at the Refuge that resulted from shotgun pellet accumulation on Refuge property. The Club agrees to sell the Club's property adjacent to the Refuge and pay 75% of the sale proceeds to DOI. It also assigns any recoverable insurance benefits to DOI.

For thirty (30) days after the date of this publication, the Department of Justice will receive comments relating to the Settlement Agreement. Comments should be addressed to the Assistant Attorney General, Environment and Natural Resources Division, and either e-mailed to pubcomment-ees.enrd@usdoj.gov or mailed to P.O. Box 7611, U.S. Department of Justice, Washington, DC 20044-7611. In either case, comments should refer to United States v. Broadkiln Sportsman Club, Inc. (D. Del.), D.J. Ref. No. 90-11-3-08802.

The proposed Settlement Agreement may be examined at: the Office of the United States Attorney for the District of Delaware, Chemical Bank Plaza, 1201 Market Street, Suite 100, Wilmington, Delaware 19899. During the comment period, the proposed Settlement Agreement may also be examined on the following Department of Justice Web site: http://www.usdoj.gov/enrd/Consent_Decree.html. A copy of the proposed Settlement Agreement may also be obtained by mail from the Department of Justice Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $21.50 for the Settlement Agreement (25 cents per page reproduction costs) payable to the United States Treasury or, if by e-mail or fax, forward a check in that amount to the Consent Decree Library at the stated address.

Robert Brook,
Assistant Section Chief, Environmental Enforcement Section, Environment and Natural Resources Division.

[FR Doc. E8-25352 Filed 10-23-08; 8:45 am]

BILLING CODE 4410-15-P